DEPARTMENT OF AGRICULTURE

Forest Service

Black Hills National Forest Advisory Board Public Meeting Dates Announced

AGENCY: Forest Service, USDA.

ACTION: Notice of Meetings.

SUMMARY: The Black Hills National Forest Advisory Board (NFAB) has announced its meeting dates for 2007. These meetings are open to the public, and public comment is accepted at any time in writing and during the last 15 minutes of each meeting for spoken comments. Persons wishing to speak are given three minutes to address the Board.

Meeting dates are the third Wednesday of each month unless otherwise indicated: January 3 (Previously announced), February 21, March 21, April 18, May 16, June 20, July 18, August 15 (Summer Field Trip—TBA), September 19, October 17, November 21. No meeting in December, January 2, 2007 (Tentative).

ADDRESSES: Meetings will begin at 1 p.m. and end no later than 5 p.m. at the Forest Service Center, 8221 S. Highway 16, Rapid City, SD 57702.

Agendas: The Board will consider a variety of issues related to national forest management. Agendas will be announced in advance in the news media but principally concern implementing phase two of the forest land and resource management plan, travel planning, and key issues related to the Chief of the Forest Service's Four Threats; fire and fuels, off highway vehicle management, open space, and invasive species control. The Board will consider such topics as biomass and Bioenergy, recreation use fees, facility master planning, and an integrated lands programs, among others.

FOR FURTHER INFORMATION CONTACT: Frank Carroll, Committee Management Officer, or Twila Morris, Executive Assistant, Black Hills National Forest, 1019 N. 5th Street, Custer, SD 57730, (605) 673-9200.

Dated: January 10, 2007.
Craig Bobzien,
Forest Supervisor.

[FR Doc. 07-157 Filed 1-17-07; 8:45 am]

BILLING CODE 3410-11-M